DEPARTMENT OF TRANSPORTATION

Federal Aviation Administration

14 CFR Part 39

[Docket No. FAA-2017-0695; Product Identifier 2016-NM-173-AD; Amendment 39-19223; AD 2018-06-03]

RIN 2120-AA64

Airworthiness Directives; Airbus Airplanes

AGENCY: Federal Aviation Administration (FAA), Department of Transportation (DOT).

ACTION: Final rule.

SUMMARY: We are superseding Airworthiness Directive (AD) 2009-18-16, which applied to certain Airbus Model A310-203, -204, -221, -222, -304, -322, -324, and -325 airplanes. AD 2009-18-16 required an inspection for cracking of certain fastener holes on certain frames, and related investigative and corrective actions if necessary; and modification of certain fastener holes. This new AD reduces the compliance times. This AD was prompted by the identification of a structural modification that falls within the scope of the work related to the extension of the service life of the affected airplanes and widespread fatigue damage evaluations. We are issuing this AD to address the unsafe condition on these products.

DATES: This AD is effective April 19, 2018.

The Director of the Federal Register approved the incorporation by reference of a certain publication listed in this AD as of April 19, 2018.

ADDRESSES: For service information identified in this final rule, contact Airbus SAS, Airworthiness Office—EAW, 1 Rond Point Maurice Bellonte, 31707 Blagnac Cedex, France; telephone: +33 5 61 93 36 96; fax: +33 5 61 93 44 51; email: account.airworth-eas@airbus.com; internet: http://www.airbus.com. You may view this referenced service information at the FAA, Transport Standards Branch, 2200 South 216th St., Des Moines, WA. For information on the availability of this material at the FAA, call 206-231-3195. It is also available on the internet at http://www.regulations.gov by searching for and locating Docket No. FAA-2017-0695.

Examining the AD Docket

You may examine the AD docket on the internet at http://www.regulations.gov by searching for and locating Docket No. FAA-2017-0695; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone 206-231-3225.

SUPPLEMENTARY INFORMATION:

Discussion

We issued a notice of proposed rulemaking (NPRM) to amend 14 CFR part 39 to supersede AD 2009-18-16, Amendment 39-16012 (74 FR 46342, September 9, 2009) (“AD 2009-18-16”). AD 2009-18-16 applied to certain Airbus Model A310-203, -204, -221, -222, -304, -322, -324, and -325 airplanes. The NPRM published in the Federal Register on July 14, 2017 (82 FR 32503). We are issuing this AD to prevent fatigue cracking of the frame foot run-outs, which could lead to rupture of the frame foot and cracking in adjacent frames and skin, and which could result in reduced structural integrity of the airplane.

The European Aviation Safety Agency (EASA), which is the Technical Agent for the Member States of the European Union, has issued EASA AD 2016-0197, dated October 5, 2016 (referred to after this as the Mandatory Continuing Airworthiness Information, or “the MCAI”), for all Airbus Model A310-203, -204, -221, -222, -304, -322, -324, and -325 airplanes. EASA AD 2016-0197 supersedes EASA AD 2008-0212, dated December 4, 2008. EASA AD 2008-0212 was the MCAI referred to in FAA AD 2009-18-16. The new MCAI states:

Within the scope of work related to the extension of the service life of A310 design and widespread fatigue damage evaluations, DGAC [Direction Générale de l'Aviation Civile] France issued AD F-2005-078 (EASA approval 2005-3957) [which corresponds to FAA AD 2006-02-06, Amendment 39-14458 (71 FR 3214, January 20, 2006)] to require a structural modification, as defined in Airbus Service Bulletin (SB) A310-53-2124 (Airbus modification 13023), to increase the service life of junctions of center box upper frame bases to upper fuselage arches.

The threshold timescales for accomplishment of the tasks as defined in SB A310-53-2124 were refined and reduced. Consequently, EASA issued AD 2007-0238 to require compliance with Revision 01 of SB A310-53-2124 at the reduced compliance times, superseding (the requirements of) DGAC France AD F-2005-078. Subsequently, Airbus identified reference material that was erroneously introduced into Airbus SB A310-53-2124 Revision 01. As a result, the SB instructions could not be accomplished properly. Operators that tried to apply SB A310-53-2124 at Revision 01 had to contact Airbus; see also Airbus SBIT [service bulletin information telex] ref. 914.0135/08, dated 03 March 2008.

Consequently, [EASA] AD 2007-0238 was revised to exclude reference to Airbus SB A310-53-2124 Revision 01 and to require accomplishment of the task(s) as described in the original SB A310-53-2124 instead, although retaining the reduced compliance times introduced by [EASA] AD 2007-0238 at original issue.

EASA AD 2008-0212, superseding [EASA] AD 2007-0238R1, was published to refer to Airbus SB A310 53-2124 Revision 02, the corrected version that was used to meet the requirements of this [EASA] AD.

Since [EASA] AD 2008-0212 was issued, new investigations in the frame of the Widespread Fatigue Damage campaign induced thresholds reduction, and Airbus issued SB A310-53-2124 Revision 03.

For the reason described above, this [EASA] AD retains the requirements of EASA AD 2008-0212, which is superseded, and requires accomplishment of modification(s) within reduced compliance time, as published in Airbus SB A310-53-2124 Revision 03.

Required actions include a high frequency eddy current (HFEC) rotating probe inspection for cracking of certain fastener holes on certain frames, and related investigative and corrective actions if necessary; and modification of certain fastener holes. Related investigative actions include an additional HFEC rotating probe inspection for cracking of fastener holes and a check to determine the edge distance of certain holes. Corrective actions include ream out of cracks and repair.

You may examine the MCAI in the AD docket on the internet at http://www.regulations.gov by searching for and locating Docket No. FAA-2017-0695.

Comments

We gave the public the opportunity to participate in developing this AD. The following presents the comment received on the NPRM and the FAA's response to that comment.

Request To Revise the Costs of Compliance

FedEx stated that repairs would cost an additional $10,000 per airplane. The commenter noted that 66% of its past accomplishments required additional efforts to incorporate the modification with supplementary repair activities. The commenter suggested that the average cost of compliance would approach $30,000 per airplane. We infer that the commenter is requesting a revision to the costs of compliance in the NPRM. We agree with commenter's request to revise the costs of compliance in this final rule. We have revised the Costs of Compliance section in this final rule accordingly.

Conclusion

We reviewed the available data, including the comment received, and determined that air safety and the public interest require adopting this AD with the change described previously, and minor editorial changes. We have determined that these minor changes:

• Are consistent with the intent that was proposed in the NPRM for correcting the unsafe condition; and

• Do not add any additional burden upon the public than was already proposed in the NPRM.

Related Service Information Under 1 CFR Part 51

Airbus has issued Service Bulletin A310-53-2124, Revision 03, dated December 22, 2014. This service information describes procedures for a rotating probe inspection for cracking between frame (FR) 43 through FR 46 on the center box, and the cold expansion (modification) of the most fatigue sensitive fastener holes. This service information is reasonably available because the interested parties have access to it through their normal course of business or by the means identified in the ADDRESSES section.

Costs of Compliance

We estimate that this AD affects 8 airplanes of U.S. registry.

We estimate that it will take about 41 work-hours per product to comply with the basic requirements of this AD. The average labor rate is $85 per work-hour. Required parts will cost about $20,180 per product. Based on these figures, we estimate the cost of this AD on U.S. operators to be $189,320, or $23,665 per product.

Although we have received no definitive data that will enable us to provide cost estimates for the on-condition actions (i.e., additional inspection and modification for certain airplanes) specified in this AD, we have determined that the total repair costs could be up to $10,000 per product. We have no way of determining the number of aircraft that might need these repairs.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-18-16, Amendment 39-16012 (74 FR 46342, September 9, 2009), and adding the following new AD:

2018-06-03 Airbus: Amendment 39-19223; Docket No. FAA-2017-0695; Product Identifier 2016-NM-173-AD.

(a) Effective Date

This AD is effective April 19, 2018.

(b) Affected ADs

This AD replaces AD 2009-18-16, Amendment 39-16012 (74 FR 46342, September 9, 2009) (“AD 2009-18-16”).

(c) Applicability

This AD applies to Airbus Model A310-203, -204, -221, -222, -304, -322, -324 and -325 airplanes; certificated in any category; all serial numbers.

(d) Subject

Air Transport Association (ATA) of America Code 53, Fuselage.

(e) Reason

This AD was prompted by an evaluation by the design approval holder indicating that the junctions of center box upper frame bases to the upper fuselage arches are subject to widespread fatigue damage and that the compliance threshold for the modification in AD 2009-18-16 should be reduced. We are issuing this AD to prevent fatigue cracking of the frame foot run-outs, which could lead to rupture of the frame foot and cracking in adjacent frames and skin, and which could result in reduced structural integrity of the airplane.

(f) Compliance

Comply with this AD within the compliance times specified, unless already done.

(g) Inspections and Modification of Fastener Holes

Except for airplanes modified before the effective date of this AD using the Accomplishment Instructions of Airbus Service Bulletin A310-53-2124: At the times specified in paragraph (g)(1) of this AD but no later than the times specified in paragraph (g)(2) of this AD, do a high frequency eddy current (HFEC) rotating probe inspection for cracking of fastener holes H1 through H29 on frames 43 through 46, and do all applicable related investigative and corrective actions, in accordance with the Accomplishment Instructions of Airbus Service Bulletin A310-53-2124, Revision 03, dated December 22, 2014, except as required by paragraph (h) of this AD. If no cracking is found and the edge distance of the fastener hole is equal to or greater than the distance specified in the Accomplishment Instructions of Airbus Service Bulletin A310-53-2124, Revision 03, dated December 22, 2014, before further flight, do the modification (cold expansion) of the affected fastener holes, in accordance with the Accomplishment Instructions of Airbus Service Bulletin A310-53-2124, Revision 03, dated December 22, 2014. Do all applicable related investigative and corrective actions before further flight.

(1) Inspect at the applicable time specified in table 1 to paragraph (g)(1) of this AD, or within 24 months after the effective date of this AD, whichever occurs later. To establish the average flight time (AFT), take the accumulated flight time (counted from the take-off up to the landing) and divide by the number of accumulated flight cycles. This gives the AFT per flight cycle. Although the thresholds for Model A310-304, -322, -324, and -325 airplanes are optimized to airplane utilization, an operator can choose to use the thresholds for the other AFT.

(2) Inspect at the later of the times specified in paragraphs (g)(2)(i) and (g)(2)(ii) of this AD.

(i) At the applicable time indicated in table 2 to paragraph (g)(2)(i) of this AD. Airbus Model A310-304, -322, -324, and -325 airplanes with an AFT equal to or less than 3.16 flight hours are short range airplanes. Airbus Model A310-304, -322, -324, and -325 airplanes with an AFT exceeding 3.16 flight hours are long range airplanes. For this paragraph, to establish the average flight time, take the accumulated flight time (counted from the take-off up to the landing) and divide by the number of accumulated flight cycles. This gives the AFT per flight cycle.

(ii) Within 500 flight cycles or 800 flight hours after October 14, 2009 (the effective date of AD 2009-18-16), whichever occurs first.

(h) Service Information Exception

Where Airbus Service Bulletin A310-53-2124, Revision 03, dated December 22, 2014, specifies to contact Airbus for appropriate action, and specifies that action as “RC” (required for compliance): Before further flight, accomplish corrective actions in accordance with the procedures specified in paragraph (l)(2) of this AD.

(i) Airplanes Modified per Revision 01 of the Service Information

For airplanes modified before the effective date of this AD using Airbus Service Bulletin A310-53-2124, Revision 01, dated May 3, 2007: Unless already accomplished, before further flight, do applicable corrective actions using a method approved by the Manager, International Section, Transport Standards Branch, FAA; or the European Aviation Safety Agency (EASA); or Airbus's EASA Design Organization Approval (DOA). If approved by the DOA, the approval must include the DOA-authorized signature.

(j) Additional Inspection and Modification

Except as provided by paragraphs (j)(1) and (j)(2) of this AD, as applicable: At the applicable thresholds specified in table 3 to the introductory text of paragraph (j) of this AD, contact the Manager, International Section, Transport Standards Branch, FAA; or EASA; or Airbus's EASA DOA for additional inspection and modification instructions. Accomplish those instructions within the compliance times approved by the Manager, International Section, Transport Standards Branch, FAA; or EASA; or Airbus's EASA DOA. If approved by the DOA, the approval must include the DOA-authorized signature.

(1) For Model A310-203, -204, -221, and -222 airplanes: No additional inspection is required if the inspection and modification specified in Airbus Service Bulletin A310-53-2124 was done after the accumulation of 29,500 flight cycles and 70,900 flight hours since the first flight of the airplane.

(2) For Model A310-304, -322, -324, and -325 airplanes: No additional inspection is required if the inspection and modification specified in Airbus Service Bulletin A310-53-2124 was done after the accumulation of 22,600 flight cycles and 69,400 flight hours since the first flight of the airplane.

(k) Credit for Previous Actions

This paragraph provides credit for the actions required by paragraph (g) of this AD, if those actions were performed before the effective date of this AD using the Accomplishment Instructions of Airbus Service Bulletin A310-53-2124, dated April 4, 2005; or Airbus Service Bulletin A310-53-2124, Revision 02, dated May 22, 2008.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as provided by paragraph (h) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA AD 2016-0197, dated October 5, 2016, for related information. This MCAI may be found in the AD docket on the internet at http://www.regulations.gov by searching for and locating Docket No. FAA-2017-0695.

(2) For more information about this AD, contact Dan Rodina, Aerospace Engineer, International Section, Transport Standards Branch, FAA, 2200 South 216th St., Des Moines, WA 98198; telephone: 206-231-3225.

(3) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A310-53-2124, Revision 03, dated December 22, 2014.

(ii) Reserved.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; internet: http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Renton, Washington, on March 2, 2018.
Michael Kaszycki,
Acting Director, System Oversight Division, Aircraft Certification Service.

[FR Doc. 2018-05018 Filed 3-14-18; 8:45 am]

BILLING CODE 4910-13-P